NUCLEAR REGULATORY COMMISSION

Advisory Committee on the Medical Uses of Isotopes: Meeting Notice

AGENCY: U.S. Nuclear Regulatory Commission

ACTION: Notice of Meeting.

SUMMARY: The U.S. Nuclear Regulatory Commission will convene a meeting of the Advisory Committee on the Medical Uses of Isotopes (ACMUI) on March 17-18, 2016. A sample of agenda items to be discussed during the public session includes: A discussion on the reporting of medical events for various modalities; an update on medical-related events; a discussion on the training and experience requirements for authorized users of alpha and beta emitters; an update on the licensing guidance for yttrium-90 microsphere brachytherapy; and a discussion on the licensing guidance for the Leksell Gamma Knife® Icon™ unit. The agenda is subject to change. The current agenda and any updates will be available at http://www.nrc.gov/reading-rm/doc-collections/acmui/meetings/2016.html or by emailing Ms. Sophie Holiday at the contact information below.

Purpose: Discuss issues related to 10 CFR part 35 Medical Use of Byproduct Material.

Date and Time for Open Sessions: March 17, 2016, from 9:30 a.m. to 5:00 p.m. and March 18, 2016, from 8:00 a.m. to 11:30 a.m.

Data and Time for Closed Sessions: March 17, 2016, from 7:30 a.m. to 9:30 a.m., March 18, 2016, from 7:30 a.m. to 8:00 a.m., and March 18, 2016, from 12:00 p.m. to 1:00 p.m.

Address for Public Meeting: U.S. Nuclear Regulatory Commission, Two White Flint North Building, Room T2-B3, 11545 Rockville Pike, Rockville, Maryland 20852.

Public Participation: Any member of the public who wishes to participate in the meeting in person or via phone should contact Ms. Holiday using the information below. The meeting will also be webcast live: video.nrc.gov.

Contact Information: Ms. Sophie J. Holiday, email: sophie.holiday@nrc.gov, telephone: (301) 415-7865.

Conduct of the Meeting

Philip O. Alderson, M.D., will chair the meeting. Dr. Alderson will conduct the meeting in a manner that will facilitate the orderly conduct of business. The following procedures apply to public participation in the meeting:

1. Persons who wish to provide a written statement should submit an electronic copy to Ms. Holiday at the contact information listed above. All submittals must be received by March 15, 2016, and must pertain to the topic on the agenda for the meeting.

2. Questions and comments from members of the public will be permitted during the meeting, at the discretion of the Chairman.

3. The draft transcript and meeting summary will be available on ACMUI's Web site http://www.nrc.gov/reading-rm/doc-collections/acmui/meetings/2016.html on or about April 29, 2016.

4. Persons who require special services, such as those for the hearing impaired, should notify Ms. Holiday of their planned attendance.

This meeting will be held in accordance with the Atomic Energy Act of 1954, as amended (primarily Section 161a); the Federal Advisory Committee Act (5 U.S.C. App); and the Commission's regulations in Title 10 Code of Federal Regulations Part 7.

Dated at Rockville, Maryland, this 28th day of January 2016.
For the Nuclear Regulatory Commission.
Andrew L. Bates,
Advisory Committee Management Officer.

[FR Doc. 2016-02121 Filed 2-3-16; 8:45 am]

BILLING CODE 7590-01-P